DEPARTMENT OF TRANSPORTATION

Federal Aviation Administration

14 CFR Part 71

[Docket No. FAA-2009-1101; Airspace Docket No. 09-ANM-24]

Modification of Class E Airspace; West Yellowstone, MT

AGENCY: Federal Aviation Administration (FAA), DOT.

ACTION: Final rule.

SUMMARY: This action will modify Class E airspace at West Yellowstone, MT, to accommodate aircraft using a new Area Navigation (RNAV) Global Positioning System (GPS) Standard Instrument Approach Procedure (SIAP) at West Yellowstone Airport. This will improve the safety and management of Instrument Flight Rules (IFR) operations at the airport. This action also includes minor adjustments in the legal description of the airspace.

DATES: Effective date, 0901 UTC, July 29, 2010. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On December 21, 2009, the FAA published in the Federal Register a Notice of proposed rulemaking to modify controlled airspace at West Yellowstone, MT (74 FR 67836). Interested parties were invited to participate in this rulemaking effort by submitting written comments on the proposal to the FAA. No comments were received.

Class E airspace designations are published in paragraph 6005 of FAA Order 7400.9T signed August 27, 2009, and effective September 15, 2009, which is incorporated by reference in 14 CFR 71.1. The Class E airspace designations listed in this document will be published subsequently in that Order.

The Rule

This action amends Title 14 Code of Federal Regulations (14 CFR) part 71 by modifying Class E surface airspace extending upward from 700 feet above the surface, at West Yellowstone Airport, to accommodate IFR aircraft executing new RNAV (GPS) SIAP's at the airport. This rule also makes minor changes to the legal description of the airspace to coincide with the National Aeronautical Charting Office. This action is necessary for the safety and management of IFR operations. With the exception of editorial changes and the changes described above, this rule is the same as that proposed in the NPRM.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, section 106 discusses the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it establishes additional controlled airspace at West Yellowstone Airport, West Yellowstone, MT.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009 is amended as follows:

Paragraph 6005. Class E Airspace Areas Extending Upward From 700 Feet or More Above the Surface of the Earth.

* * * * *

ANM MT E5 West Yellowstone, MT

West Yellowstone, Yellowstone Airport, MT

(Lat. 44°41′18″ N., long. 111°07′04″ W.)

That airspace extending upward from 700 feet above the surface within 4.3 miles west and 8.3 miles east of the 026° and 206° bearings of the Yellowstone Airport extending from 8.3 miles northeast to 23.3 miles southwest of the Yellowstone Airport; that airspace extending upward from 1,200 feet above the surface within 4.3 miles each side of the 209° bearing from lat. 44°34′32″ N., long. 111°11′51″ W. extending to 36.2 miles southwest, and within 5 miles north and 4.3 miles south of the 304° bearing from lat. 44°34′32″ N., long. 111°11′51″ W. extending to the east edge of V-343; that airspace extending upward from 10,700 feet MSL within a 25.3-mile radius of lat. 44°34′32″ N., long. 111°11′51″ W. extending clockwise from the 081° bearing from lat. 44°34′32″ N., long. 111°11′51″ W. to 4.3 miles east of the 236° bearing from lat. 44°34′32″ N., long. 111°11′51″ W., and within 4.3 miles each side of the 236° bearing from lat. 44°34′32″ N., long. 111°11′51″ W. extending to 43.5 miles southwest; that airspace extending upward from 10,700 feet MSL within 9 miles south and 5 miles north of the 304° bearing from lat. 44°34′32″ N., long. 111°11′51″ W. extending to the east edge of V-343; that airspace extending upward from 12,000 feet MSL within a 30.5-mile radius of lat. 44°34′32″ N., long. 111°11′51″ W. extending clockwise from the 026° bearing from lat. 44°34′32″ N., long. 111°11′51″ W. to the 081° bearing from lat. 44°34′32″ N., long. 111°11′51″ W; that airspace extending upward from 12,500 feet MSL within 4.3 miles each side of the 293°, 329° and 043° bearing from lat. 45°00′19″ N., long. 110°53′49″ W. extending to 25.16 miles west to 30.57 miles northwest to 54.24 miles north, and within 4.3 miles each side of the 312° bearing from lat. 44°31′10″ N., long. 111°14′03″ W. extending to 25.20 miles northwest, excluding that portion that overlies the east edge of V-343 and south edge of V-2 and V-86; that airspace extending upward from 13,000 feet MSL, within a 30.5-mile radius of lat. 44°34′32″ N., long. 111°11′51″ W. extending clockwise from the 313° bearing to the 026° bearing from lat. 44°34′32″ N., long. 111°11′51″ W. excluding that portion that overlies V-298 and V-343. This Class E airspace area shall be effective during the specific dates and times established in advance by a Notice to Airmen. The effective date and time will thereafter be continuously published in the Airport/Facility Directory.

Issued in Seattle, Washington, on May 14, 2010.
Clark Desing,
Manager, Operations Support Group, Western Service Center .

[FR Doc. 2010-12908 Filed 5-28-10; 8:45 am]

BILLING CODE 4910-13-P